FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 27, 2012.

A. Federal Reserve Bank of Chicago (Colette A. Fried, Assistant Vice President) 230 South LaSalle Street, Chicago, Illinois 60690-1414:

1. The Gus J. Lukas and Lorraine J. Lukas 2006 Trust for Lori J. Foy (“Trust”), and Lori J. Foy, Grafton, Wisconsin, individually and as trustee of Trust, and Lori J. Foy, together as a group acting in concert with Trust, Lori J. Foy as trustee, Paul Foy, Grafton, Wisconsin, John Lukas, and Mark Lukas, both of Manitowoc, Wisconsin, and the Foy minor children, to retain control of Community Bancshares of Wisconsin, Inc., and thereby indirectly retain control of Cornerstone Community Bank, both in Grafton, Wisconsin.

Board of Governors of the Federal Reserve System, March 29, 2012.
Robert deV. Frierson,
Deputy Secretary of the Board.

[FR Doc. 2012-7958 Filed 4-2-12; 8:45 am]

BILLING CODE 6210-01-P